DEPARTMENT OF COMMERCE

National Oceanic and Atmospheric Administration

50 CFR Part 622

[Docket No. 111102663-1682-01]

RIN 0648-BB60

Fisheries of the Caribbean, Gulf of Mexico, and South Atlantic; Reef Fish Resources of the Gulf of Mexico; Commercial Reef Fish Fishery of the Gulf of Mexico; Control Date

AGENCY: National Marine Fisheries Service (NMFS), National Oceanic and Atmospheric Administration (NOAA), Commerce.

ACTION: Advanced notice of proposed rulemaking; request for comments.

SUMMARY: This notice announces that the Gulf of Mexico Fishery Management Council (Council) is considering creating additional restrictions limiting participation in the Red Snapper Individual Fishing Quota (IFQ) Program. If such management measures are implemented, the Council is considering January 1, 2012, as a possible control date. Anyone entering the program after the control date will not be assured of future access should a management regime that limits participation in the program be prepared and implemented. NMFS invites comments on the establishment of this control date.

DATES: Comments must be submitted by December 30, 2011.

ADDRESSES: You may submit comments on the proposed rule identified by “NOAA-NMFS-2011-0273” by any of the following methods:

• Electronic submissions: Submit electronic comments via the Federal e-Rulemaking Portal: http://www.regulations.gov. Follow the instructions for submitting comments.

• Mail: Susan Gerhart, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, click on “submit a comment,” then enter “NOAA-NMFS-2011-0273” in the keyword search and click on “search”. To view posted comments during the comment period, enter “NOAA-NMFS-2011-0273” in the keyword search and click on “search”. NMFS will accept anonymous comments (enter N/A in the required field if you wish to remain anonymous). You may submit attachments to electronic comments in Microsoft Word, Excel, WordPerfect, or Adobe PDF file formats only.

Comments received through means not specified in this rule will not be considered.

FOR FURTHER INFORMATION CONTACT: Susan Gerhart, telephone: (727) 824-5305, or email: Susan.Gerhart@noaa.gov.

SUPPLEMENTARY INFORMATION: Beginning January 1, 2012, all U.S. citizens or permanent resident aliens are eligible to receive transfers of Red Snapper IFQ shares or allocation. A Gulf of Mexico (Gulf) commercial reef fish permit will still be required to harvest, land, and sell red snapper. This notice is to inform current and potential participants of the Gulf Red Snapper IFQ Program that possession of IFQ shares or allocation after this date may not ensure participation under future management of the program. The Council is considering a provision to require shareholders to “use”, as defined by the provision, all or some portion of their allocation, or be subject to losing their shares. Other options include re-establishing a requirement to possess a Gulf commercial reef fish permit to receive shares or allocation under the program. If the Council prepares an amendment to the Fishery Management Plan (FMP) for Reef Fish Resources in the Gulf to restrict participation in the Gulf Red Snapper IFQ Program in relation to this control date, an analysis of the specific biological, economic, and social effects of the action will be prepared at that time. Those analyses would be contained in that subsequent amendment to the FMP and would be made available to the public at that time.

Publication of the control dates in the Federal Register informs participants of the Council's considerations, and gives notice to anyone entering the fishery after the control date they would not be assured of future access should a management regime be implemented using the control date as a means to restrict participation. Implementation of any such program would require preparation of an amendment to the respective FMP and publication of a notice of availability and proposed rule in the Federal Register with pertinent public comment periods.

Since the first control date notice of November 1, 1989, 54 FR 46755 (November 7, 1989), the Council has established a total of five control dates for various aspects of the Gulf of Mexico reef fish fishery. As stated in the accompanying notices, they were intended to provide additional notice to the public that the Council was considering certain future management actions potentially restricting public access to fishery resources. The most recent control date was December 31, 2008, 74 FR 11517 (March 19, 2008), which related to potential future actions to address overcapacity in the commercial sector of the reef fish fishery. The current notice does not supersede any of the prior notices, and is intended only to provide additional public notice of potential future action being considered relative to the red snapper IFQ program.

The establishment of a control date does not commit the Council or NMFS to any particular management regime. The Council may or may not make use of this control date as part of the requirements for participation in the IFQ Program. Fishermen are not guaranteed future participation in the program, regardless of their entry date. The Council may take action that would affect participants who were in the program prior to the control date or the Council may choose to take no further action to control entry or access to the IFQ program.

This notification also gives the public notice that interested participants should locate and preserve records that substantiate and verify their participation in the Gulf reef fish fishery.

Authority: 16 U.S.C. 1801 et seq.

Dated: November 25, 2011.
Patricia A. Montanio,
Acting Deputy Assistant Administrator for Operations, National Marine Fisheries Service.

[FR Doc. 2011-30854 Filed 11-29-11; 8:45 am]

BILLING CODE 3510-22-P